FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than December 26, 2013.

A. Federal Reserve Bank of Chicago (Colette A. Fried, Assistant Vice President) 230 South LaSalle Street, Chicago, Illinois 60690-1414:

1. James R. Kennedy, Jr., as trustee of the Kennedy Control Trust, both of Dubuque, Iowa, to acquire voting shares of, and the Kennedy Control Trust to join the Kennedy Family Group consisting of: Sarah A. Roby, Catherine E. Roby, both of Cumming, Iowa; Susan M. Kennedy, Jessica L. Kennedy, both of West, Des Moines, Iowa; Joseph J. Kennedy, Ellen M. Kennedy, Sean J. Kennedy, Thomas J. Kennedy, all of Robins, Iowa; Daniel J. Kennedy, Marion, Iowa; Erica R. Kennedy, and Adam H. Kennedy, both of Dyersville, Iowa; to retain voting shares of Fidelity Company, and thereby to indirectly voting shares of Fidelity Bank & Trust, both in Dubuque, Iowa, and Community State Bank, Tipton, Iowa.

B. Federal Reserve Bank of Kansas City (Dennis Denney, Assistant Vice President) 1 Memorial Drive, Kansas City, Missouri 64198-0001:

1. Bill J. Gotch, Myrna F. Gotch, Jennifer L. Gotch, and Brett J. Gotch, all of South Sioux City, Nebraska; to acquire voting shares of Siouxland National Corporation, and thereby indirectly acquire voting shares of Siouxland National Bank, both in South Sioux City, Nebraska.

Board of Governors of the Federal Reserve System, December 6, 2013.
Michael J. Lewandowski,
Associate Secretary of the Board.

[FR Doc. 2013-29506 Filed 12-10-13; 8:45 am]

BILLING CODE 6210-01-P